DEPARTMENT OF COMMERCE

International Trade Administration

[C-533-902]

Organic Soybean Meal From India: Preliminary Results and Partial Rescission of Countervailing Duty Administrative Review; 2021-2022

AGENCY: Enforcement and Compliance, International Trade Administration, Department of Commerce.

SUMMARY: The U.S. Department of Commerce (Commerce) preliminarily determines that countervailable subsidies are being provided to certain producers/exporters of organic soybean meal from India. The period of review (POR) is September 3, 2021, through December 31, 2022. Interested parties are invited to comment on these preliminary results.

DATES: Applicable May 30, 2024.

FOR FURTHER INFORMATION CONTACT: Peter Shaw or Tylar Lewis, AD/CVD Operations, Office OVII, Enforcement and Compliance, International Trade Administration, U.S. Department of Commerce, 1401 Constitution Avenue NW, Washington, DC 20230; telephone: (202) 482-0697 or (202) 482-6009, respectively.

SUPPLEMENTARY INFORMATION:

Background

On July 12, 2023, Commerce published in the Federal Register the notice of initiation of an administrative review of the Order with respect to 38 companies.¹ On August 11, 2023, Commerce selected Delight Lifelike Products Private Ltd. and Vinod Kumar Ranjeet Singh Bafna.² Subsequently, on October 24, 2023, we selected Shri Sumati Industries Private Limited (Shri Sumati) and Shanti Worldwide (Shanti), the only two companies for which an administrative review was requested and not withdrawn, as the mandatory respondents.³ Pursuant to section 751(a)(3)(A) of the Tariff Act of 1930, as amended (the Act), Commerce extended the deadline for the preliminary results until May 23, 2024.⁴

¹ See Initiation of Antidumping and Countervailing Duty Administrative Reviews, 88 FR 44262 (July 12, 2023); see also Organic Soybean Meal from India: Countervailing Duty Order, 87 FR 29735 (May 16, 2022) (Order).

² See Memorandum, “Respondent Selection,” dated August 11, 2023.

³ See Memorandum, “Respondent Selection,” dated October 24, 2023.

⁴ See Memorandum, “Extension of Deadline for Preliminary Results,” dated January 9, 2024.

For a complete description of the events that followed the initiation of this review, see the Preliminary Decision Memorandum.⁵ A list of topics discussed in the Preliminary Decision Memorandum is included in Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Administrative Review of the Countervailing Duty Order on Organic Soybean Meal from India; 2021-2022,” dated concurrently with, and hereby adopted by, this notice (Preliminary Decision Memorandum).

Scope of the Order

The products covered by this Order is organic soybean meal from India. For a complete description of the scope of the Order, see the Preliminary Decision Memorandum.

Partial Rescission of Administrative Review

Pursuant to 19 CFR 351.213(d)(1), Commerce will rescind an administrative review, in whole or in part, if the parties that requested a review withdraw the request within 90 days of the date of publication of the notice of initiation. A list of the 35 companies Commerce received timely-filed withdrawal requests from is provided below in Appendix II. Because the withdrawal requests were timely filed and no other parties requested a review of these companies, in accordance with 19 CFR 351.213(d)(1), Commerce is rescinding this review of the Order with respect to these 35 companies.

Methodology

Commerce is conducting this administrative review in accordance with section 751(a)(1)(A) of the Act. For each of the subsidy programs found to be countervailable, we preliminarily determine that there is a subsidy, i.e., a government-provided financial contribution that gives rise to a benefit to the recipient, and that the subsidy is specific.⁶ For a full description of the methodology underlying our conclusions, including our reliance on adverse facts available pursuant to sections 776(a) and (b) of the Act, see the Preliminary Decision Memorandum.

⁶ See sections 771(5)(B) and (D) of the Act regarding financial contribution; section 771(5)(E) of the Act regarding benefit; and section 771(5A) of the Act regarding specificity.

Preliminary Results of Review

As a result of this review, we preliminarily determine that for 2021 and 2022, the following estimated countervailable subsidy rates exist:

Company | Subsidy rate 2021 (percent ad valorem) | Subsidy rate 2022 (percent ad valorem)
Shri Sumati Industries Private Limited | 7.99 | 4.08
Shanti Worldwide | 261.80 | 261.80

Disclosure

Commerce intends to disclose its calculations and analysis performed in connection with the preliminary results to interested parties within five days of its public announcement, or if there is no public announcement, within five days of the date of publication of this notice, in accordance with 19 CFR 351.224(b).

Public Comment

Pursuant to 19 CFR 351.309(c), interested parties may submit case briefs to Commerce no later than 30 days after the publication of these preliminary results of review in the Federal Register. Rebuttal briefs, limited to issues raised in case briefs, may be submitted no later than five days after the deadline for filing case briefs.⁷ Interested parties who submit case briefs or rebuttal briefs in this proceeding must submit: (1) a table of contents listing each issue; and (2) a table of authorities.⁸ All briefs must be filed electronically using ACCESS. An electronically filed document must be received successfully in its entirety in ACCESS by 5:00 p.m. Eastern Time on the established deadline.

⁷ See 19 CFR 351.309(d); see also Administrative Protective Order, Service, and Other Procedures in Antidumping and Countervailing Duty Proceedings, 88 FR 67069, 67077 (September 29, 2023) (APO and Service Procedures).

⁸ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.⁹ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁰

⁹ We use the term “issue” here to describe an argument that Commerce would normally address in a comment of the Issues and Decision Memorandum.

¹⁰ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants; and (3) a list of issues to be discussed. Issues raised in the hearing will be limited to those raised in the respective case briefs. If a request for a hearing is made, Commerce will inform parties of the scheduled date for the hearing.¹¹

¹¹ See 19 CFR 351.310(d).

Cash Deposit Requirements

Pursuant to section 751(a)(2)(C) of the Act, Commerce intends, upon publication of the final results, to instruct U.S. Customs and Border Protection (CBP) to collect cash deposits of estimated countervailing duties in the amounts shown for the year 2022 for Shri Sumati and Shanti, except where the rate calculated in the final results is zero or de minimis, no cash deposit will be required on shipments of the subject merchandise entered or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Assessment Rates

In accordance with 19 CFR 351.221(b)(4)(i), we preliminarily assigned subsidy rates in the amounts shown above for the producers/exporters shown above. Consistent with section 751(a)(1) of the Act and 19 CFR 351.212(b)(2), upon issuance of the final results, Commerce shall determine, and CBP shall assess, countervailing duties on all appropriate entries covered by this review. We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which this review is rescinded with these preliminary results, we will instruct CBP to assess countervailing duties on all appropriate entries at a rate equal to the cash deposit of estimated countervailing duties required at the time of entry, or withdrawal from warehouse, for consumption, during the period September 3, 2021, through December 31, 2022, in accordance with 19 CFR 351.212(c)(1)(i).

Final Results

Unless the deadline is extended pursuant to section 751(a)(3)(A) of the Act and 19 CFR 351.213(h)(2), Commerce intends to issue the final results of this administrative review, including the results of its analysis of the issues raised by parties in their comments, within 120 days after the date of publication of these preliminary results in the Federal Register.

Notification to Interested Parties

We are issuing and publishing these preliminary results in accordance with sections 751(a)(1) and 777(i)(1) of the Act, and 19 CFR 351.213 and 351.221(b)(4).

Dated: May 23, 2024.
Ryan Majerus,
Deputy Assistant Secretary for Policy and Negotiations, performing the Non-exclusive Functions and Duties of the Assistant Secretary for Enforcement and Compliance.

Appendix I

List of Topics Discussed in the Preliminary Decision Memorandum

I. Summary

II. Background

III. Period of Review

IV. Scope of the Order

V. Partial Rescission of Administrative Review

VI. Use of Facts Otherwise Available and Application of Adverse Inferences

VII. Subsidies Valuation

VIII. Discount Rates

IX. Analysis of Programs

X. Recommendation

Appendix II

List of Companies for Which Commerce Is Rescinding Its Review

1. Abhay Oil Industries

2. Agrawal Oil & Biocheam

3. Bergwerff Organic India Pvt., Ltd.; Suminter India Organics Pvt., Ltd.

4. Bio Treasure Overseas

5. Delight Lifelike Products Private Ltd.

6. Delight Sustainable Products Llp

7. Eco Gold Nutri & Organics Llp

8. Eco Gold Nutri And Organics Llp

9. Ecopure Specialties Limited

10. Jay Shree Agro Products

11. Kaj Traders

12. Kanishka Organics Llp

13. Keshav Proteins and Organic LLP

14. Kiesriya Agro Exim Pvt., Ltd.

15. Mani Loni

16. Navjyot International

17. Prasad Cotton Industries Pvt., Ltd.

18. Radha Krishna Oil Product

19. Raj Foods International

20. Raj Natural Food Pvt., Ltd.

21. Rajat Agro Commodities Pvt., Ltd.

22. Reindeer Organics Llp

23. Sai Smaran Foods Ltd.

24. Satguru Agro Resources Private Ltd.

25. Satguru Organics Pvt., Ltd.

26. Seasons International Pvt., Ltd.

27. Shanti Overseas

28. Shemach Impex

29. Shivam Enterprises

30. Shri Narayani Mfg. Co.

31. Tejawat Organic Foods

32. Unique Organics Ltd.

33. Vimala Food Products

34. Vinod Kumar Ranjeet Singh Bafna

35. We Organic Nature Pvt. Ltd.

[FR Doc. 2024-11909 Filed 5-29-24; 8:45 am]

BILLING CODE 3510-DS-P